DEPARTMENT OF THE TREASURY

Community Development Financial Institutions Fund

Funding Opportunities: Bank Enterprise Award Program; 2018 Funding Round

Funding Opportunity Title: Notice of Funds Availability (NOFA) inviting Applications for the Fiscal Year (FY) 2018 Funding Round of the Bank Enterprise Award Program (BEA Program).

Announcement Type: Announcement of funding opportunity.

Funding Opportunity Number: CDFI-2018-BEA.

Catalog of Federal Domestic Assistance (CFDA) Number: 21.021.

Dates:

Table 1—FY 2018 BEA Program Funding Round—Key Dates for Applicants
Description | Deadline | Time (eastern time—ET) | Contact information
Grant Application Package/SF-424 Mandatory (Application for Federal Assistance). Submission Method: Electronically via Grants.gov | August 23, 2018 | 11:59 p.m. | Contact Grants.gov at 800-518-4726 or support@grants.gov.
Last day to contact BEA Program Staff re: BEA Program Application materials | September 18, 2018 | 5:00 p.m. | CDFI Fund BEA Helpdesk: 202-653-0421 or BEA Award Management Information System (AMIS) Service Request.¹
Last day to contact Certification, Compliance Monitoring and Evaluation (CCME) staff | September 18, 2018 | 5:00 p.m. | CCME Helpdesk: 202-653-0423 or Compliance and Reporting AMIS Service Request.²
Last day to contact IT Help Desk re. AMIS support and submission of the FY 2018 BEA Program Electronic Application in AMIS | September 20, 2018 | 5:00 p.m. | CDFI Fund IT Helpdesk: 202-653-0422 or IT AMIS Service Request.³
FY 2018 BEA Program Electronic Application. Submission Method: Electronically via AMIS | September 20, 2018 | 5:00 p.m. | CDFI Fund IT Helpdesk: 202-653-0422 or IT AMIS Service Request.⁴
¹ For questions regarding completion of the BEA Application materials, the preferred electronic method of contact with the BEA Program Office is to submit a Service Request (SR) within AMIS. For the SR, select “BEA Application” for the record type.
² For Compliance and Reporting related questions, the preferred electronic method of contact is to submit a Service Request (SR) within AMIS. For the SR, select “General Inquiry” for the record type, and select “BEA-Compliance & Reporting” for the type.
³ For Information Technology support, the preferred method of contact is to submit a Service Request (SR) within AMIS. For the SR, select “General Inquiry” for the record type, and select “BEA-AMIS technical problem” for the type.
⁴ Ibid.

Executive Summary: This NOFA is issued in connection with the fiscal year (FY) 2018 funding round of the Bank Enterprise Award Program (BEA Program). The BEA Program is administered by the U.S. Department of the Treasury's Community Development Financial Institutions Fund (CDFI Fund). Through the BEA Program, the CDFI Fund awards formula-based grants to depository institutions that are insured by the Federal Deposit Insurance Corporation (FDIC) for increasing their levels of loans, investments, Service Activities, and technical assistance within highly Distressed Communities, and financial assistance to certified Community Development Financial Institutions (CDFIs) through equity investments, equity-like loans, grants, stock purchases, loans, deposits, and other forms of financial and technical assistance, during a specified period.

I. Program Description

A. History: The CDFI Fund was established by the Riegle Community Development and Regulatory Improvement Act of 1994 to promote economic revitalization and community development through investment in and assistance to CDFIs. Since its creation in 1994, the CDFI Fund has awarded more than $3 billion to CDFIs, community development organizations, and financial institutions through the BEA Program; the Capital Magnet Fund, the Community Development Financial Institutions Program (CDFI Program), and the Native American CDFI Assistance Program (NACA Program). In addition, the CDFI Fund has allocated $54 billion in tax credit allocation authority to Community Development Entities through the New Markets Tax Credit Program (NMTC Program), and guaranteed bonds in the total amount of $1.36 billion through the CDFI Bond Guarantee Program.

The BEA Program complements the community development activities of banks and thrifts (collectively referred to as banks for purposes of this NOFA) by providing financial incentives to expand investments in CDFIs and to increase lending, investment, and Service Activities within Distressed Communities. Providing monetary awards to banks for increasing their community development activities leverages the CDFI Fund's dollars and puts more capital to work in Distressed Communities throughout the nation.

B. Authorizing Statutes and Regulations: The BEA Program was authorized by the Bank Enterprise Award Act of 1991, as amended. The regulations governing the BEA Program can be found at 12 CFR part 1806 (the Interim Rule). The Interim Rule provides the evaluation criteria and other requirements of the BEA Program. Detailed BEA Program requirements are also found in the application materials associated with this NOFA (the Application). The CDFI Fund encourages interested parties and Applicants to review the authorizing statute, Interim Rule, this NOFA, the Application, and the Uniform Administrative Requirements, Cost Principles, and Audit Requirements for Federal Awards (Uniform Requirements) for a complete understanding of the Program. Capitalized terms in this NOFA are defined in the authorizing statute, the Interim Rule, this NOFA, the Application, or the Uniform Requirements. Details regarding Application content requirements are found in the Application and related materials. Application materials can be found on Grants.gov and the CDFI Fund's website at www.cdfifund.gov/bea.

C. Uniform Administrative Requirements, Cost Principles, and Audit Requirements for Federal Awards (2 CFR 200): The Uniform Administrative Requirements codify financial, administrative, procurement, and program management standards that Federal award-making agencies and Recipients must follow. When evaluating award applications, awarding agencies must evaluate the risks to the program posed by each applicant, and each applicant's merits and eligibility. These requirements are designed to ensure that applicants for Federal assistance receive a fair and consistent review prior to an award decision. This review will assess items such as the Applicant's financial stability, quality of management systems, history of performance, and audit findings. In addition, the Uniform Requirements include guidance on audit requirements and other award requirements with which Recipients must comply.

D. Priorities: Through the BEA Program, the CDFI Fund specifies the following priorities:

1. Estimated Award Amounts: The award percentage used to derive the estimated award amount for Applicants that are CDFIs is three times greater than the award percentage used to derive the estimated award amount for Applicants that are not CDFIs;

2. Priority Factors: Priority Factors will be assigned based on an Applicant's asset size, as described in Section V.A.14 of this NOFA (Application Review Information: Priority Factors); and

3. Priority of Awards: The CDFI Fund will rank Applicants in each category of Qualified Activity according to the priorities described in Section V.A.16. of this NOFA (Application Review Information: Award Percentages, Award Amounts, Application Review Process, Selection Process, Programmatic Financial Risk, and Application Rejection), and specifically parts V.B.2: Selection Process, V.B.3: Programmatic and Financial Risk, and V.B.4: Persistent Poverty Counties.

E. Baseline Period and Assessment Period Dates: A BEA Program Award is based on an Applicant's increase in Qualified Activities from the Baseline Period to the Assessment Period, as reported on an individual transaction basis in the Application. For the FY 2018 funding round, the Baseline Period is calendar year 2016 (January 1, 2016 through December 31, 2016), and the Assessment Period is calendar year 2017 (January 1, 2017 through December 31, 2017).

F. Funding Limitations: The CDFI Fund reserves the right to fund, in whole or in part, any, all, or none of the Applications submitted in response to this NOFA. The CDFI Fund also reserves the right to reallocate funds from the amount that is anticipated to be available through this NOFA to other CDFI Fund programs, or to reallocate remaining funds to a future BEA Program funding round, particularly if the CDFI Fund determines that the number of awards made through this NOFA is fewer than projected.

G. Persistent Poverty Counties: Pursuant to the Consolidated Appropriations Act, 2018 (Pub. L. 115-141), Congress mandated that at least ten percent of the CDFI Fund's appropriations be directed to counties that meet the criteria for “Persistent Poverty” designation. Persistent Poverty Counties (PPCs) are defined as any county that has had 20 percent or more of its population living in poverty over the past 30 years, as measured by the 1990 and 2000 decennial censuses, and the most recent series of 5-year data available from the American Community Survey from the Census Bureau. The tabular BEA Program Eligibility Data, which is located on the CDFI Fund's website, indicates whether a census tract also meets “Persistent Poverty County” (PPC) criteria. Applicants that apply under this NOFA will be required to indicate the minimum and maximum percentage of the BEA Program Award that the Applicant will commit to investing in PPCs.

II. Federal Award Information

A. Funding Availability: The CDFI Fund expects to award up to $25 million for the FY 2018 BEA Program Awards round under this NOFA. The CDFI Fund reserves the right to award in excess of said funds under this NOFA, provided that the appropriated funds are available. The CDFI Fund reserves the right to impose a minimum or maximum award amount; however, under no circumstances will an award be higher than $1 million for any Recipient.

B. Types of Awards: BEA Program Awards are made in the form of grants.

C. Anticipated Start Date and Period of Performance: The CDFI Fund anticipates the period of performance for the FY 2018 funding round will begin in the winter of calendar year 2018. Specifically, the period of performance begins on the Federal Award Date and will conclude at least one (1) full year after the Federal Award Date as further specified in the Award Agreement, during which the Recipient must meet the performance goals set forth in the Award Agreement.

D. Eligible Activities: Eligible Activities for the BEA Program are referred to as Qualified Activities and are defined in the Interim Rule to include CDFI Related Activities, Distressed Community Financing Activities, and Service Activities (12 CFR 1806.103).

CDFI Related Activities (12 CFR 1806.103) means CDFI Equity and CDFI Support Activities. CDFI Equity consists of Equity Investments, Equity-Like Loans, and Grants. CDFI Support Activities includes Loans, Deposits and Technical Assistance.

Distressed Community Financing Activities (12 CFR 1806.103) means Consumer Loans and Commercial Loans and Investments. Consumer Loans include Affordable Housing Loans; Education Loans; Home Improvement Loans; and Small Dollar Consumer Loans. Commercial Loans and Investments includes Affordable Housing Development Loans and related Project Investments; Commercial Real Estate Loans and related Project Investments; and Small Business Loans and related Project Investments. Service Activities (12 CFR 1806.103) include Deposit Liabilities, Financial Services, Community Services, Targeted Financial Services, and Targeted Retail Savings/Investment Products.

When calculating BEA Program Award amounts, the CDFI Fund will only consider the amount of a Qualified Activity that has been fully disbursed or, in the case of a partially disbursed Qualified Activity, will only consider the amount that an Applicant reasonably expects to disburse for a Qualified Activity within 12 months from the end of the Assessment Period. Subject to the requirements outlined in Section VI. of this NOFA, in the case of Commercial Real Estate Loans and related Project Investments, the total principal amount of the transaction must be $10 million or less to be considered a Qualified Activity. Notwithstanding the foregoing, the CDFI Fund, in its sole discretion, may consider transactions with a total principal value of over $10 million, subject to review.

An activity funded with prior BEA Program Award dollars, or funded to satisfy requirements of an Award Agreement from a prior award, shall not constitute a Qualified Activity for the purposes of calculating or receiving an award.

E. Distressed Community: A Distressed Community must meet certain minimum geographic area and eligibility requirements, which are defined in the Interim Rule at 12 CFR 1806.103 and more fully described in 12 CFR 1806.401. Applicants should use the CDFI Fund's Information Mapping System (CIMS Mapping Tool) to determine whether a Baseline Period activity or Assessment Period activity is located in a qualified Distressed Community. The CIMS Mapping Tool can be accessed through AMIS or the CDFI Fund's website at https://www.cdfifund.gov/Pages/mapping-system.aspx. The CIMS Mapping Tool contains a step-by-step training manual on how to use the tool. In addition, further instructions to determine whether an activity is located in a qualified BEA Distressed Community can be located at: https://www.cdfifund.gov/programs-training/Programs/bank_enterprise_award/Pages/apply-step.aspx#step1 when selecting the BEA Program Application CIMS3 Instructions document in the “Application Materials” section of the BEA web page on the CDFI Fund's website. If you have any questions or problems with accessing the CIMS Mapping Tool, please contact the CDFI Fund IT Help Desk by telephone at (202) 653-0300, by IT AMIS Service Request, or by email to AMIS@cdfi.treas.gov.

Please note that a Distressed Community as defined by the BEA Program is not the same as an Investment Area as defined by the CDFI Program, a Low-Income Community as defined by the NMTC Program, or an Area of Economic Distress as defined by the Capital Magnet Fund.

1. Designation of Distressed Community by a CDFI Partner: CDFI Partners that receive CDFI Support Activities from an Applicant must be integrally involved in a Distressed Community. CDFI Support Activities include loans, Technical Assistance, or deposits provided to a CDFI Partner. Applicants must provide evidence that each CDFI Partner that is the recipient of CDFI Support Activities is integrally involved in a Distressed Community, as noted in the Application. CDFI Partners that receive Equity Investments, Equity-Like Loans or grants are not required to demonstrate Integral Involvement. Additional information on Integral Involvement can be found in Section V. of this NOFA.

2. Distressed Community Determination by a BEA Applicant: Applicants applying for a BEA Program Award for performing Distressed Community Financing Activities or Service Activities must verify that addresses of both Baseline Period and Assessment Period activities are in Distressed Communities when completing their Application.

A BEA Applicant shall determine an area is a Distressed Community by:

a. Selecting a census tract where the Qualified Activity occurred that meets the minimum area and eligibility requirements; or

b. selecting the census tract where the Qualified Activity occurred, plus one or more census tracts directly contiguous to where the Qualified Activity occurred that when considered in the aggregate, meet the minimum area and eligibility requirements set forth in this section.

F. Award Agreement: Each Recipient under this NOFA must electronically sign an Award Agreement via AMIS prior to payment of the award proceeds by the CDFI Fund. The Award Agreement contains the terms and conditions of the award. For further information, see Section VI. of this NOFA.

G. Use of Award: It is the policy of the CDFI Fund that BEA Program Awards may not be used by Recipients to recover overhead or Indirect Costs. The Recipient may use up to fifteen percent (15%) of the total BEA Program award amount on Qualified Activities as Direct Administrative Expenses. “Direct Administrative Expenses” shall mean Direct Costs, as described in section 2 CFR 200.413 of the Uniform Requirements, which are incurred by the Recipient to carry out the Qualified Activities. Such costs must be able to be specifically identified with the Qualified Activities and not also recovered as Indirect Costs. “Indirect Costs” means costs or expenses defined in accordance with section 2 CFR 200.56 of the Uniform Requirements. In addition, the Recipient must comply, as applicable, with the Buy American Act of 1933, 41 U.S.C. 8301-8303, with respect to any Direct Costs.

III. Eligibility Information

A. Eligible Applicants: For the purposes of this NOFA, the following table sets forth the eligibility criteria to receive an BEA Program award from the CDFI Fund.

Table 2—Eligibility Requirements for Applicants
Criteria | Description
Eligible Applicants | • Eligible Applicants for the BEA Program must be Insured Depository Institutions, as defined in the Interim Rule.
| For the FY 2018 funding round, an Applicant must be FDIC-insured as of December 31, 2017 to be eligible for consideration for a BEA Program Award under this NOFA.
| The depository institution holding company of an Insured Depository Institution may not apply on behalf of an Insured Depository Institution. Applications received from depository institution holding companies will be disqualified.
CDFI Applicant | For the FY 2018 funding round, an eligible certified-CDFI Applicant is an Insured Depository Institution that was certified as a CDFI as of December 31, 2017 and that maintains its status as a certified CDFI at the time BEA Program Awards are announced under this NOFA. No CDFI Applicant may receive a FY 2018 BEA Program Award if it has: (1) An application pending for assistance under the FY 2018 round of the CDFI Program; (2) been awarded assistance from the CDFI Fund under the CDFI Program within the 12-month period prior to the Federal Award Date of the FY 2018 Award Agreement issued by the CDFI Program; or (3) ever received assistance under the CDFI Program for the same activities for which it is seeking a FY 2018 BEA Program Award. Please note that Applicants may apply for both a CDFI Program award and a BEA Program Award in FY 2018; however, receiving a FY 2018 CDFI Program award removes an Applicant from eligibility for a FY 2018 BEA Program Award.
| If an Applicant's CDFI certification application was submitted to the CDFI Fund as of December 31, 2017 (the last day of the assessment period), and was ultimately approved by the CDFI Fund prior to the publication of the FY 2018 NOFA, then the Applicant's CDFI status is considered “certified” for purposes of the FY 2018 BEA Program application.
Debarment/Do Not Pay Verification | • The CDFI Fund will conduct a debarment check and will not consider an Application submitted by an Applicant if the Applicant is delinquent on any Federal debt.
| The Do Not Pay Business Center was developed to support Federal agencies in their efforts to reduce the number of improper payments made through programs funded by the Federal government. The Do Not Pay Business Center provides delinquency information to the CDFI Fund to assist with the debarment check.

B. Prior Award Recipients: The previous success of an Applicant in any of the CDFI Fund's programs will not be considered under this NOFA. Prior BEA Program Award Recipients and prior award recipients of other CDFI Fund programs are eligible to apply under this NOFA, except as noted in the following table:

Table 3—Eligibility Requirements for Applicants Which Are Prior Recipients
Criteria | Description
Pending resolution of noncompliance | • If an Applicant that is a prior recipient or allocatee under any CDFI Fund program: (i) Has submitted reports to the CDFI Fund that demonstrate noncompliance with a previous assistance agreement, award agreement, allocation agreement, bond loan agreement, or agreement to guarantee and (ii) the CDFI Fund has yet to make a final determination as to whether the entity is in default of its previous agreement, the CDFI Fund will consider the Applicant's Application under this NOFA pending full resolution, in the sole determination of the CDFI Fund, of the noncompliance.
Default status | • The CDFI Fund will not consider an Application submitted by an Applicant that is a prior CDFI Fund award recipient or allocatee under any CDFI Fund program if, as of the applicable Application deadline of this NOFA, the CDFI Fund has made a final determination that such Applicant is in default of a previously executed assistance agreement, award agreement, allocation agreement, bond loan agreement, or agreement to guarantee.
| Such entities will be ineligible to apply for an Award pursuant to this NOFA so long as the Applicant's prior award or allocation remains in default status or such other time period as specified by the CDFI Fund in writing.

C. Contact the CDFI Fund: Accordingly, Applicants that are prior recipients and/or allocatees under any CDFI Fund program are advised to comply with requirements specified in an assistance agreement, award agreement, allocation agreement, bond loan agreement, or agreement to guarantee. All outstanding reports and compliance questions should be directed to the Certification, Compliance Monitoring and Evaluation helpdesk by submitting a BEA Compliance and Reporting AMIS Service Request or by telephone at (202) 653-0423. The CDFI Fund will respond to Applicants' reporting, compliance, or disbursement questions between the hours of 9:00 a.m. and 5:00 p.m. ET, starting on the date of the publication of this NOFA. The CDFI Fund will not respond to Applicants' reporting, compliance, or disbursement telephone calls or email inquiries that are received after 5:00 p.m. ET on September 18, 2018, until after the Application deadline. The CDFI Fund will respond to technical issues related to AMIS Accounts through 5:00 p.m. ET on September 20, 2018, via an IT AMIS Service Request, email at AMIS@cdfi.treas.gov, or by telephone at (202) 653-0422.

D. Cost sharing or matching fund requirements: Not applicable.

IV. Application and Submission Information

A. Address to Request an Application Package: Application materials can be found on Grants.gov and the CDFI Fund's website at www.cdfifund.gov/bea. Applicants may request a paper version of any Application material by contacting the CDFI Fund Help Desk at cdfihelp@cdfi.treas.gov.

B. Content and Form of Application Submission: All Application materials must be prepared using the English language and calculations must be made in U.S. dollars. Applicants must submit all materials described in and required by the Application by the applicable deadlines. Detailed Application content requirements including instructions related to the submission of the Grant Application Package in Grants.gov and the FY 2018 BEA Program Application in AMIS, the CDFI Fund's web-based portal, are provided in detail in the Application Instructions. Once an Application is submitted, the Applicant will not be allowed to change any element of the Application. The CDFI Fund reserves the right to request and review other pertinent or public information that has not been specifically requested in this NOFA or the Application.

C. Application Submission: The CDFI Fund has a two-step submission process for BEA Applications that requires the submission of required application information on two separate deadlines and in two separate and distinct systems, Grants.gov and the CDFI Fund's AMIS. The first step is the submission of the Grant Application, which consists solely of the Office of Management and Budget Standard Form—424 Mandatory (SF-424 Mandatory) Application for Federal Assistance, in Grants.gov. The second step is to submit an FY 2018 BEA Program Application in AMIS.

D. Grants.gov: Applicants must be registered with Grants.gov to submit the Grants Application Package. The Grants Application Package consists of one item, the SF-424 Mandatory. In order to register with Grants.gov, Applicants must have a DUNS number and have an active registration with SAM.gov. The CDFI Fund strongly encourages Applicants to start the Grants.gov registration process as soon as possible (refer to the following link: https://www.grants.gov/web/grants/register.html) as it may take several weeks to complete. Applicants that have previously registered with Grants.gov must verify that their registration is current and active. Applicants should contact Grants.gov directly with questions related to the registration or submission process as the CDFI Fund does not administer or maintain this system.

Applicants are required to submit a Grant Application Package in Grants.gov and have it validated by the Grants.gov submission deadline of August 23, 2018. The Grant Application Package is validated by Grants.gov after the Applicant's initial submission and it may take Grants.gov up to 48 hours to complete the validation process. Therefore, the CDFI Fund encourages Applicants to submit the Grant Application Package as early as possible. This will help to ensure that the Grant Application Package is validated before the Grants.gov submission deadline and provide time for Applicants to contact Grants.gov directly to resolve any submission issues since the CDFI Fund does not administer or maintain that system. For more information about Grants.gov, please visit https://www.grants.gov and see Table 8 for Grants.gov contact information.

The CDFI Fund can only electronically retrieve validated Grant Application Packages from Grants.gov and therefore only considers the submission of the Grant Application Package to be successful when it has been validated by Grants.gov before the submission deadline. It is the Applicant's sole responsibility to ensure that its Grant Application Package is submitted and validated by Grants.gov before the submission deadline. Applicants that do not successfully submit their Grant Application Package and have it validated by the Grants.gov submission deadline will not be able to submit a FY 2018 BEA Program Application in AMIS. The CDFI Fund will electronically retrieve validated Grant Application Packages from Grants.gov on a daily basis. Applicants are advised that it will take up to 48 hours from when the CDFI Fund retrieves the validated Grant Application Package for it to be available in AMIS to associate with a FY 2018 BEA Program Application.

Once the CDFI Fund has retrieved the validated Grant Application Package from Grants.gov and made it available in AMIS, Applicants must associate it with their Application. Applicants can begin working on their FY 2018 BEA Program Application in AMIS at any time, however, they will not be able to submit the application until the validated Grant Application Package is associated, by the Applicant, with the application.

Applicants are advised that the CDFI Fund will not notify them when the validated Grant Application Package has been retrieved from Grants.gov or when it is available in AMIS. It is the Applicant's responsibility to ensure that the validated SF-424 Mandatory is associated with its FY 2018 BEA Application in AMIS. Applicants will not be able to submit their FY 2018 BEA Program Application without completing this step.

Applicants are advised that the lookup function in the FY 2018 BEA Application in AMIS, uses the DUNS number reported on the validated Grant Application Package to match it with the correct AMIS Organization account. Therefore, Applicants must make sure the DUNS number included in the Grant Application Package submitted in Grants.gov matches the DUNS number in their AMIS Organization account. If, for example, the DUNS number does not match because the Applicant inadvertently used the DUNS number of their Bank Holding Company on the Grant Application Package in Grants.gov and is attempting to associate with AMIS Organization account of their FDIC-Insured Bank subsidiary, the lookup function will not return any results and the Applicant will not be able to submit the FY 2018 BEA Application.

Applicants are also highly encouraged to provide EIN, Authorized Representative and/or Contact Person information on the Grant Application Package that matches the information included in AMIS Organization account.

E. Dun & Bradstreet Universal Numbering System (DUNS): Pursuant to the Uniform Administrative Requirements, each Applicant must provide, as part of its Application submission, a Dun and Bradstreet Universal Numbering System (DUNS) number. Applicants without a DUNS number will not be able to submit a Grant Application Package in Grants.gov.

Applicants should allow sufficient time for Dun & Bradstreet to respond to inquiries and/or requests for DUNS numbers.

F. System for Award Management (SAM): An active SAM account is required to submit the required Grant Application Package in Grants.gov. Any entity applying for Federal grants or other forms of Federal financial assistance through Grants.gov must be registered in SAM in order to submit its Grant Application Package in Grants.gov or FY 2018 BEA Program Application in AMIS. Applicants must have established a SAM.gov account no later than 30 days after the release of this NOFA. The SAM registration process can take several weeks to complete so Applicants are encouraged to begin this process upon release of this NOFA. Applicants that have previously completed the SAM registration process must verify that their SAM accounts are current and active. Applicants are required to maintain a current and active SAM account at all times during which it has an active Federal award or an Application under consideration for an award by a Federal awarding agency.

A signed notarized letter identifying the authorized Entity Administrator for the entity associated with the DUNS number is required by SAM before the registration will be activated. This requirement is applicable to new entities registering in SAM, as well as existing entities with registrations being updated or renewed in SAM.

The CDFI Fund will not consider any Applicant that fails to properly register or activate its SAM account and, as a result, is unable to submit its Grant Application Package in Grants.gov, or FY 2018 BEA Program Application in AMIS by the respective deadlines. Applicants must contact SAM directly with questions related to SAM registration or account changes as the CDFI Fund does not administer or maintain this system. For more information about SAM, please visit https://www.sam.gov or call 866-606-8220.

G. AMIS: All Applicants must complete an FY 2018 BEA Program Application in AMIS, the CDFI Fund's web-based portal. All Applicants must register User and Organization accounts in AMIS by the applicable Application deadline. Failure to register and complete a FY 2018 BEA Program Application in AMIS will result in the CDFI Fund being unable to accept the Application. As AMIS is the CDFI Fund's primary means of communication with Applicants and Recipients, institutions must make sure that they update their contact information in their AMIS accounts. In addition, the Applicant should ensure that the institution information (name, EIN, DUNS number, Authorized Representative, contact information, etc.) on the Grant Application Package submitted as part of the Grant Application Package in Grants.gov matches the information in AMIS. EINs and DUNS numbers in the Applicant's SAM account must match those listed in AMIS. For more information on AMIS, please see the information available through the AMIS Home page at https://amis.cdfifund.gov. Qualified Activity documentation and other attachments as specified in the applicable BEA Program Application must also be submitted electronically via AMIS. Detailed instructions regarding submission of Qualified Activity documentation is provided in the Application Instructions and AMIS Training Manual for the BEA Program Application. Applicants will not be allowed to submit missing Qualified Activity documentation after the Application deadline and any Qualified Activity missing the required documentation will be disqualified. Qualified Activity documentation delivered by hard copy to the CDFI Fund's Washington, DC office address will be rejected, unless the Applicant previously requested a paper version of the Application as described in Section IV.A.

H. Submission Dates and Times: The following table provides the critical deadlines for the FY 2018 BEA Funding Round. Applications and any other required documents or attachments received after the applicable deadline will be rejected. The document submission deadlines stated in this NOFA and the Application are strictly enforced. The CDFI Fund will not grant exceptions or waivers for late submissions except where the submission delay was a direct result of a Federal government administrative or technological error.

Description | Deadline | Time (eastern time)
Grant Application Package/SF-424 Mandatory. Submission Method: Electronically via Grants.gov | August 23, 2018 | 11:59 p.m. ET.
FY 2018 BEA Program Application. Submission Method: Electronically via AMIS | September 20, 2018 | 5:00 p.m. ET.

1. Confirmation of Application Submission: Applicants may verify that their Grant Application Package was successfully submitted and validated in Grants.gov and that their FY 2018 BEA Program Application was successfully submitted in AMIS. Applicants should note that the Grant Application Package consists solely of the SF-424 Mandatory and has a different deadline than the FY 2018 BEA Program Application. These deadlines are provided above in Table 4. FY 2018 BEA Program Funding Round Critical Deadlines for Applicants. If the Grant Application Package is not successfully submitted and subsequently validated by Grants.gov by the deadline, the CDFI Fund will not review the FY 2018 BEA Program Application or any of the application related material submitted in AMIS and the Application will be deemed ineligible.

a. Grants.gov Submission Information: In order to determine whether the Grant Application Package was submitted properly, each Applicant should: (1) Receive two separate emails from Grants.gov, and (2) perform an independent step in Grants.gov to determine whether the Grant Application was validated. Each Applicant will receive the first email from Grants.gov immediately after the Grant Application Package is submitted confirming that the submission has entered the Grants.gov system. This email will contain a tracking number. Within 48 hours, the Applicant will receive a second email which will indicate if the submitted Grant Application Package was successfully validated or rejected with errors. However, Applicants should not rely on the second email notification from Grants.gov to confirm that the Grant Application Package was validated. Applicants should then perform an independent step in Grants.gov to determine if the Grant Application Package status shows as “Validated” by clicking on the “Applicants” menu, followed by clicking “Track my Application,” and then entering the tracking number provided in the first email. The Grant Application Package cannot be retrieved by the CDFI Fund until it has been validated by Grants.gov.

b. AMIS Submission Information: AMIS is the web-based portal where Applicants will directly enter their application information and add supporting documentation, when applicable. The CDFI Fund strongly encourages the Applicant to allow sufficient time to confirm the Application content, review the material submitted, and remedy any issues prior to the Application deadline. Only the Authorized Representative or an Application Point of Contact can submit the FY 2018 BEA Program Application in AMIS.

Applicants will not receive an email confirming that their FY 2018 BEA Program Application was successfully submitted in AMIS. Instead, Applicants should check their AMIS account to ensure that the status of the FY 2018 BEA Program Application shows “Under Review.” Step-by-step instructions for submitting an FY 2018 BEA Program Application in AMIS are provided in the Application Instructions, Supplemental Guidance, and AMIS Training Manual for the BEA Program Electronic Application.

2. Multiple Application Submissions: If an Applicant submits multiple versions of its Grant Application Package in Grants.gov, the Applicant can only associate one with its FY 2018 BEA Program Application in AMIS.

Applicants can only submit one FY 2018 BEA Program Application in AMIS. Upon submission, the Application will be locked and cannot be resubmitted, edited, or modified in any way. The CDFI Fund will not unlock a submitted Application or allow multiple Application submissions.

3. Late Submission: The CDFI Fund will not accept an Application submitted after the Application deadline except where the submission delay was a direct result of a Federal government administrative or technological error. In such case, the Applicant must submit their request for acceptance of a late Application submission to the BEA Program Office via an AMIS Service Request with documentation that clearly demonstrates the error by no later than two business days after the applicable Application deadline for Grants.gov or AMIS. The CDFI Fund will not respond to request for acceptance of late Application submissions after that time period. The AMIS Service Request must be directed to the BEA Program with a subject line of “Late Application Submission Request.”

I. Funding Restrictions: BEA Program Awards are limited by the following:

1. The Recipient shall use BEA Program Award funds only for the eligible activities described in Section II.D. of this NOFA and its Award Agreement.

2. The Recipient may not distribute BEA Program Award funds to an affiliate, Subsidiary, or any other entity, without the CDFI Fund's prior written approval.

3. BEA Program Award funds shall only be disbursed to the Recipient.

4. The CDFI Fund, in its sole discretion, may disburse BEA Program Award funds in amounts, or under terms and conditions, which are different from those requested by an Applicant.

J. Other Submission Requirements: None.

V. Application Review Information

A. Criteria: If the Applicant submitted a complete and eligible Application, the CDFI Fund will conduct a substantive review in accordance with the criteria and procedures described in the Regulations, this NOFA, the Application guidance, and the Uniform Requirements. The CDFI Fund reserves the right to contact the Applicant by telephone, email, or mail for the sole purpose of clarifying or confirming Application information. If contacted, the Applicant must respond within the time period communicated by the CDFI Fund or run the risk that its Application will be rejected.

1. CDFI Related Activities: CDFI Related Activities include Equity Investments, Equity-Like Loans, and CDFI Support Activities provided to eligible CDFI Partners.

2. Eligible CDFI Partner: CDFI Partner is defined as a certified CDFI that has been provided assistance in the form of CDFI Related Activities by an unaffiliated Applicant (12 CFR 1806.103). For the purposes of this NOFA, an eligible CDFI Partner must have been certified as a CDFI as of the end of the applicable Assessment Period and be Integrally Involved in a Distressed Community.

3. Integrally Involved: Integrally Involved is defined at 12 CFR 1806.103. For purposes of this NOFA, for a CDFI Partner to be deemed to be Integrally Involved, it must have: (i) Provided at least 10 percent of financial transactions or dollars transacted (e.g., loans or Equity Investments), or 10 percent of Development Service Activities (as defined in 12 CFR 1805.104), in one or more Distressed Communities identified by the Applicant or the CDFI Partner, as applicable, in each of the three calendar years preceding the date of this NOFA; (ii) transacted at least 25 percent of financial transactions (e.g., loans or equity investments) in one or more Distressed Communities in at least one of the three calendar years preceding the date of this NOFA, or 25 percent of Development Service Activities (as defined in 12 CFR 1805.104), in one or more Distressed Communities identified by the Applicant or the CDFI Partner, as applicable, in at least one of the three calendar years preceding the date of this NOFA; or (iii) demonstrated that it has attained at least 10 percent of market share for a particular financial product in one or more Distressed Communities (such as home mortgages originated in one or more Distressed Communities) in at least one of the three calendar years preceding the date of this NOFA.

4. Limitations on eligible Qualified Activities provided to certain CDFI Partners: A CDFI Applicant cannot receive credit for any financial assistance or Qualified Activities provided to a CDFI Partner that is also an FDIC-insured depository institution or depository institution holding company.

5. Certificates of Deposit: Section 1806.103 of the Interim Rule states that any certificate of deposit (CD) placed by an Applicant or its Subsidiary in a CDFI Partner that is a bank, thrift, or credit union must be: (i) Uninsured and committed for at least three years; or (ii) insured, committed for a term of at least three years, and provided at an interest rate that is materially below market rates, in the determination of the CDFI Fund.

a. For purposes of this NOFA, “materially below market interest rate” is defined as an annual percentage rate that does not exceed 100 percent of yields on Treasury securities at constant maturity as interpolated by Treasury from the daily yield curve and available on the Treasury website at www.treas.gov/offices/domestic-finance/debt-management/interest-rate/yield.shtml. For example, for a three-year CD, Applicants should use the three-year rate U.S. Government securities, Treasury Yield Curve Rate posted for that business day. The Treasury updates the website daily at approximately 5:30 p.m. ET. CDs placed prior to that time may use the rate posted for the previous business day. The annual percentage rate on a CD should be compounded daily, quarterly, semi-annually, or annually. If a variable interest rate is used, the CD must also have an interest rate that is materially below the market interest rate over the life of the CD, in the determination of the CDFI Fund.

b. For purposes of this NOFA, a deposit placed by an Applicant directly with a CDFI Partner that participates in a deposit network or service may be treated as eligible under this NOFA if it otherwise meets the criteria for deposits in 12 CFR.1806.103 and the CDFI Partner retains the full amount of the initial deposit or an amount equivalent to the full amount of the initial deposit through a deposit network exchange transaction.

6. Equity Investment: An Equity Investment means financial assistance provided by an Applicant or its Subsidiary to a CDFI, which CDFI meets such criteria as set forth in this NOFA, in the form of a grant, a stock purchase, a purchase of a partnership interest, a purchase of a limited liability company membership interest, or any other investment deemed to be an Equity Investment by the CDFI Fund.

7. Equity-Like Loan: An Equity-Like Loan is a loan provided by an Applicant or its Subsidiary to a CDFI, and made on such terms that it has characteristics of an Equity Investment, as such characteristics may be specified by the CDFI Fund (12 CFR 1806.103). For purposes of this NOFA, an Equity-Like Loan must meet the following characteristics:

a. At the end of the initial term, the loan must have a definite rolling maturity date that is automatically extended on an annual basis if the CDFI borrower continues to be financially sound and carry out a community development mission;

b. Periodic payments of interest and/or principal may only be made out of the CDFI borrower's available cash flow after satisfying all other obligations;

c. Failure to pay principal or interest (except at maturity) will not automatically result in a default of the loan agreement; and

d. The loan must be subordinated to all other debt except for other Equity-Like Loans. Notwithstanding the foregoing, the CDFI Fund reserves the right to determine, in its sole discretion and on a case-by-case basis, whether an instrument meets the above-stated characteristics of an Equity-Like Loan.

8. CDFI Support Activity: A CDFI Support Activity is defined as assistance provided by an Applicant or its Subsidiary to a CDFI that is Integrally Involved in a Distressed Community, in the form of a loan, Technical Assistance, or deposits.

9. CDFI Program Matching Funds: Equity Investments, Equity-Like Loans, and CDFI Support Activities (except Technical Assistance) provided by a BEA Applicant to a CDFI and used by the CDFI for matching funds under the CDFI Program are eligible as a Qualified Activity under the CDFI Related Activity category.

10. Commercial Loans and Investments: Commercial Loans and Investments is a sub-category of Distressed Community Financing Activities and is defined as the following lending activity types: Affordable Housing Development Loans and related Project Investments; Commercial Real Estate Loans and related Project Investments; and Small Business Loans and related Project Investments.

11. Consumer Loans: Consumer Loans is a sub-category of Distressed Community Financing Activities and is defined as the following lending activity types: Affordable Housing Loans; Education Loans; Home Improvement Loans; and Small Dollar Consumer Loans.

12. Distressed Community Financing Activities and Service Activities: Distressed Community Financing Activities comply with consumer protection laws and are defined as (1) Consumer Loans; or (2) Commercial Loans and Investments. In addition to the requirements set forth in the Interim Rule, this NOFA provides the following additional requirements:

a. Affordable Housing Development Loans and Related Project Investments: For purposes of this NOFA, eligible Affordable Housing Development Loans and related Project Investments do not include housing for students, or school dormitories.

b. Commercial Real Estate Loans and related Project Investments: For purposes of this NOFA, eligible Commercial Real Estate Loans (12 CFR 1806.103) and related Project Investments are generally limited to transactions with a total principal value of $10 million or less. Notwithstanding the foregoing, the CDFI Fund, in its sole discretion, may consider transactions with a total principal value of over $10 million, subject to review. For such transactions, Applicants must provide a separate narrative, or other information, to demonstrate that the proposed project offers, or significantly enhances the quality of, a facility or service not currently provided to the Distressed Community.

c. Small Dollar Consumer Loan: For purposes of this NOFA, eligible Small Dollar Consumer Loans are affordable loans that serve as available alternatives to the marketplace for individuals who are Eligible Residents with a total principal value of no less than $500 and no greater than $5,000 and have a term of ninety (90) days or more.

d. Distressed Community Financing Activities—Transactions Less Than $250,000: For purposes of this NOFA, Applicants are expected to maintain records for any transaction submitted as part of the FY 2018 BEA Program Application, including supporting documentation for transactions in the Distressed Community Financing Activity category of less than $250,000. The CDFI Fund reserves the right to request supporting documentation from an Applicant during its Application Review process for a Distressed Community Financing Activities transaction less than $250,000.

e. Low- and Moderate-Income residents: For the purposes of this NOFA, Low-Income means borrower income that does not exceed 80 percent of the area median income, and Moderate-Income means borrower income may be 81 percent to no more than 120 percent of the area median income, according to the U.S. Census Bureau data.

13. Reporting Certain Financial Services: The CDFI Fund will value the administrative cost of providing certain Financial Services using the following per unit values:

a. $100.00 per account for Targeted Financial Services including safe transaction accounts, youth transaction accounts, Electronic Transfer Accounts and Individual Development Accounts;

b. $50.00 per account for checking and savings accounts that do not meet the definition of Targeted Financial Services;

c. $5.00 per check cashing transaction;

d. $50,000 per new ATM installed at a location in a Distressed Community;

e. $500,000 per new retail bank branch office opened in a Distressed Community, including school-based bank branches approved by the Applicant's Federal bank regulator;

f. In the case of Applicants engaging in Financial Services activities not described above, the CDFI Fund will determine the unit value of such services;

g. When reporting the opening of a new retail bank branch office, the Applicant must certify that such new branch is intended to remain in operation for at least the next five years;

h. Financial Service Activities must be provided by the Applicant to Eligible Residents or enterprises that are located in a Distressed Community. An Applicant may determine the number of Eligible Residents who are recipients of Financial Services by either: (i) Collecting the addresses of its Financial Services customers, or (ii) certifying that the Applicant reasonably believes that such customers are Eligible Residents or enterprises located in a Distressed Community and providing a brief analytical narrative with information describing how the Applicant made this determination. Citations must be provided for external sources. In addition, if external sources are referenced in the narrative, the Applicant must explain how it reached the conclusion that the cited references are directly related to the Eligible Residents or enterprises to whom it is claiming to have provided the Financial Services; and

i. When reporting changes in the dollar amount of deposit accounts, only calculate the net change in the total dollar amount of eligible Deposit Liabilities between the Baseline Period and the Assessment Period. Do not report each individual deposit. If the net change between the Baseline Period and Assessment Period is a negative dollar amount, then a negative dollar amount may be recorded for Deposit Liabilities only. Instructions for determining the net change is available in the Supplemental Guidance to the FY 2018 BEA Program Application.

14. Priority Factors: Priority Factors are the numeric values assigned to individual types of activity within: (i) The Distressed Community Financing Activities, and (ii) Services Activities categories of Qualified Activities. For the purposes of this NOFA, Priority Factors will be based on the Applicant's asset size as of the end of the Assessment Period (December 31, 2017) as reported by the Applicant in the Application. Asset size classes (i.e., small institutions, intermediate-small institutions, and large institutions) will correspond to the Community Reinvestment Act (CRA) asset size classes set by the three Federal bank regulatory agencies and that were effective as of the end of the Assessment Period. The Priority Factor works by multiplying the change in a Qualified Activity by the assigned Priority Factor to achieve a “weighted value.” This weighted value of the change would be multiplied by the applicable Award percentage to yield the Award amount for that particular activity. For purposes of this NOFA, the CDFI Fund is establishing Priority Factors based on Applicant asset size to be applied to all activity within the Distressed Community Financing Activities and Service Activities categories only, as follows:

Table 5—CRA Asset Size Classification
| Priority factor
Small institutions (assets of less than $313 million as of 12/31/2017) | 5.0
Intermediate—small institutions (assets of at least $313 million but less than $1.252 billion as of 12/31/2017) | 3.0
Large institutions (assets of $1.252 billion or greater as of 12/31/2017) | 1.0

15. Certain Limitations on Qualified Activities:

a. Low-Income Housing Tax Credits: Financial assistance provided by an Applicant for which the Applicant receives benefits through Low-Income Housing Tax Credits, authorized pursuant to Section 42 of the Internal Revenue Code, as amended (26 U.S.C. 42), shall not constitute an Equity Investment, Project Investment, or other Qualified Activity, for the purposes of calculating or receiving a BEA Program Award.

b. New Markets Tax Credits: Financial assistance provided by an Applicant for which the Applicant receives benefits as an investor in a Community Development Entity that has received an allocation of New Markets Tax Credits, authorized pursuant to Section 45D of the Internal Revenue Code, as amended (26 U.S.C. 45D), shall not constitute an Equity Investment, Project Investment, or other Qualified Activity, for the purposes of calculating or receiving a BEA Program Award. Leverage loans used in New Markets Tax Credit structured transactions that meet the requirements outlined in this NOFA are considered Distressed Community Financing Activities. The application materials will provide further guidance on requirements for BEA transactions which were leverage loans used in a New Markets Tax Credit structured transaction.

c. Loan Renewals and Refinances: Financial assistance provided by an Applicant shall not constitute a Qualified Activity, as defined in this part, for the purposes of calculating or receiving a BEA Program Award if such financial assistance consists of a loan to a borrower that has matured and is then renewed by the Applicant, or consists of a loan to a borrower that is retired or restructured using the proceeds of a new commitment by the Applicant.

d. Certain Business Types: Financial assistance provided by an Applicant shall not constitute a Qualified Activity, as defined in this part, for the purposes of financing the following business types: Adult entertainment providers, golf courses, race tracks, gambling facilities, country clubs, massage parlors, hot tub facilities, suntan facilities, or stores where the principal business is the sale of alcoholic beverages for consumption off premises.

e. Prior BEA Program Awards: Qualified Activities funded with prior funding round BEA Program Award dollars or funded to satisfy requirements of the BEA Program Award Agreement shall not constitute a Qualified Activity for the purposes of calculating or receiving a BEA Program Award.

f. Prior CDFI Program Awards: No CDFI Applicant may receive a BEA Program Award for activities funded by another CDFI Fund program or Federal program.

16. Award Percentages, Award Amounts, Application Review Process, Selection Process, Programmatic and Financial Risk, and Application Rejection: The Interim Rule and this NOFA describe the process for selecting Applicants to receive a BEA Program Award and determining Award amounts.

a. Award percentages: In the CDFI Related Activities subcategory of CDFI Equity, for all Applicants, the estimated award amount will be equal to 18 percent of the increase in Qualified Activities reported in this subcategory.

In the CDFI Related Activities subcategory of CDFI Support Activities, for a certified CDFI Applicant, the estimated award amount will be equal to 18 percent of the increase in Qualified Activities in this subcategory. If an Applicant is not a certified CDFI, the estimated award amount will be equal to 6 percent of the increase in Qualified Activities in this subcategory.

In Distressed Community Financing Activities' subcategory of Consumer Lending, the estimated award amount for certified CDFI Applicants will be 18 percent of the weighted value of the increase in Qualified Activities in this subcategory. If an Applicant is not a certified CDFI Applicant, the estimated award amount will be equal to 6 percent of the weighted value of the increase in Qualified Activities in this subcategory.

In the Distressed Community Financing Activities subcategory of Commercial Lending and Investments, for a certified CDFI Applicant, the estimated award amount will be equal to 9 percent of the weighted value of the increase in Qualified Activities in this subcategory. If an Applicant is not a certified CDFI, the estimated award amount will be equal to 3 percent of the weighted value of the increase in Qualified Activity in this subcategory.

In the Service Activities category, for a certified CDFI Applicant, the estimated award amount will be equal to 9 percent of the weighted value of the increase in Qualified Activity for the category. If an Applicant is not a certified CDFI, the estimated award amount will be equal to 3 percent of the weighted value of the increase in Qualified Activity for the category.

b. Award Amounts: An Applicant's estimated award amount will be calculated according to the procedure outlined in the Interim Rule (at 12 CFR 1806.403). As outlined in the Interim Rule at 12 CFR 1806.404, the CDFI Fund will determine actual Award amounts based on the availability of funds, increases in Qualified Activities from the Baseline Period to the Assessment Period, and the priority ranking of each Applicant.

In calculating the increase in Qualified Activities, the CDFI Fund will determine the eligibility of each transaction for which an Applicant has applied for a BEA Program Award. In some cases, the actual award amount calculated by the CDFI Fund may not be the same as the estimated award amount requested by the Applicant.

For purposes of calculating award payment amounts, the CDFI Fund will treat Qualified Activities with a total principal amount less than or equal to $250,000 as fully disbursed. For all other Qualified Activities, Recipients will have 12 months from the end of the Assessment Period to make disbursements and 15 months from the end of the Assessment Period to submit to the CDFI Fund disbursement requests for the corresponding portion of their awards, after which the CDFI Fund will rescind and de-obligate any outstanding award balance and said outstanding award balance will no longer be available to the Recipient.

B. Review and Selection Process:

1. Application Review Process: All Applications will be initially evaluated by external non-Federal reviewers. Reviewers are selected based on their experience in understanding various financial transactions, reading and interpreting financial documentation, strong written communication skills, and strong mathematical skills. Reviewers must complete the CDFI Fund's conflict of interest process and be approved by the CDFI Fund.

2. Selection Process: If the amount of funds available during the funding round is insufficient for all estimated Award amounts, Recipients will be selected based on the process described in the Interim Rule at 12 CFR 1806.404. This process gives funding priority to Applicants that undertake activities in the following order: (i) CDFI Related Activities, (ii) Distressed Community Financing Activities, and (iii) Service Activities, as described in the Interim Rule at 12 CFR 1806.404(c).

Within each category, CDFI Applicants will be ranked first according to the ratio of the actual award amount calculated by the CDFI Fund for the category to the total assets of the Applicant, followed by Applicants that are not CDFI Applicants according to the ratio of the actual award amount calculated by the CDFI Fund for the category to the total assets of the Applicant.

Selections within each priority category will be based on the Applicants' relative rankings within each such category, subject to the availability of funds and any established maximum dollar amount of total awards that may be awarded for the Distressed Community Financing Activities category of Qualified Activities, as determined by the CDFI Fund.

The CDFI Fund, in its sole discretion: (i) May adjust the estimated award amount that an Applicant may receive; (ii) may establish a maximum amount that may be awarded to an Applicant; and (iii) reserves the right to limit the amount of an award to any Applicant if the CDFI Fund deems it appropriate.

The CDFI Fund reserves the right to contact the Applicant to confirm or clarify information. If contacted, the Applicant must respond within the CDFI Fund's time parameters or the Application may be rejected.

The CDFI Fund reserves the right to change its eligibility and evaluation criteria and procedures. If those changes materially affect the CDFI Fund's award decisions, the CDFI Fund will provide information regarding the changes through the CDFI Fund's website.

3. Programmatic and Financial Risk: The CDFI Fund will consider safety and soundness information from the appropriate Federal bank regulatory agency as defined in Section 3 of the Federal Deposit Insurance Act (12 U.S.C. 1813(q)). If the appropriate Federal bank regulatory agency identifies safety and soundness concerns, the CDFI Fund will assess whether the concerns cause or will cause the Applicant to be incapable of completing the activities for which funding has been requested. The CDFI Fund will not approve a BEA Program Award under any circumstances for an Applicant if the appropriate Federal bank regulatory agency indicates that the Applicant received a composite rating of “5” on its most recent examination, performed in accordance with the Uniform Financial Institutions Rating System.

Furthermore, the CDFI Fund will not approve a BEA Program Award for an Applicant that has:

a. A CRA assessment rating of below “Satisfactory” on its most recent examination; b. a financial audit with: A going concern paragraph, an adverse opinion, a disclaimer of opinion, or a withdrawal of an opinion on its most recent audit; c. a Prompt Corrective Action directive from its regulator that was active at the time the Applicant submitted its Application to the CDFI Fund or becomes active during the CDFI Fund's evaluation of the Application.

Applicants and/or their appropriate Federal bank regulator agency may be contacted by the CDFI Fund to provide additional information related to Federal bank regulatory or CRA information. The CDFI Fund will consider this information and may choose to not approve a BEA Program Award for an Applicant if the information indicates that the Applicant may be unable to responsibly manage, re-invest, and/or report on a BEA Program Award during the performance period.

4. Persistent Poverty Counties: Should the CDFI Fund determine, upon analysis of the initial pool of BEA Program Award Recipients, that it has not achieved the 10 percent PPC requirement mandated by Congress, Award preference will be given to Applicants that committed to deploying a minimum of 10 percent of their FY 2018 BEA Program Award in PPCs. Applicants may be required to deploy more than the minimum commitment percentage, but the percentage required should not exceed the maximum commitment percentage provided in the Application. Applicants that committed to serving PPCs and are selected to receive a FY 2018 BEA Program award, will have their PPC commitment incorporated into their Award Agreement as a Performance Goal which will be subject to compliance and reporting requirements. No applicant, however, will be disqualified from consideration for not making a PPC commitment in its BEA Program Application.

5. Application Rejection: The CDFI Fund reserves the right to reject an Application if information (including administrative error) comes to the CDFI Fund's attention that either: Adversely affects an Applicant's eligibility for an award; adversely affects the CDFI Fund's evaluation or scoring of an Application; or indicates fraud or mismanagement on the Applicant's part. If the CDFI Fund determines any portion of the Application is incorrect in a material respect, the CDFI Fund reserves the right, in its sole discretion, to reject the Application.

There is no right to appeal the CDFI Fund's award decisions. The CDFI Fund's award decisions are final. The CDFI Fund will not discuss the specifics of an Applicant's FY 2018 BEA Program Application or provide reasons why an Applicant was not selected to receive a BEA Program Award. The CDFI Fund will only respond to general questions regarding the FY 2018 BEA Program Application and award decision process until 30 days after the award announcement date.

C. Anticipated Announcement and Federal Award Dates: The CDFI Fund anticipates making its FY 2018 BEA Program award announcement in the winter of 2018. The Federal Award Date shall be the date that the CDFI Fund executes the Award Agreement.

VI. Federal Award Administration Information

A. Federal Award Notices: The CDFI Fund will notify an Applicant of its selection as a Recipient by delivering a notification or letter. The Award Agreement will contain the general terms and conditions governing the CDFI Fund's provision of an Award. The Award Recipient will receive a copy of the Award Agreement via AMIS. The Recipient is required to sign the Award Agreement via an electronic signature in AMIS. The CDFI Fund will subsequently execute the Award Agreement. Each Recipient must also ensure that complete and accurate banking information is reflected in its SAM account at www.sam.gov in order to receive its award payment.

B. Administrative and National Policy Requirements: If, prior to entering into an Award Agreement, information (including an administrative error) comes to the CDFI Fund's attention that adversely affects: The Recipient's eligibility for an award; the CDFI Fund's evaluation of the Application; the Recipient's compliance with any requirement listed in the Uniform Requirements; or indicates fraud or mismanagement on the Recipient's part, the CDFI Fund may, in its discretion and without advance notice to the Recipient, terminate the award or take other actions as it deems appropriate.

If the Recipient's certification status as a CDFI changes, the CDFI Fund reserves the right, in its sole discretion, to re-calculate the award, and modify the Award Agreement based on the Recipient's non-CDFI status.

By executing an Award Agreement, the Recipient agrees that, if the CDFI Fund becomes aware of any information (including an administrative error) prior to the effective date of the Award Agreement that either adversely affects the Recipient's eligibility for an award, or adversely affects the CDFI Fund's evaluation of the Recipient's Application, or indicates fraud or mismanagement on the part of the Recipient, the CDFI Fund may, in its discretion and without advance notice to the Recipient, terminate the Award Agreement or take other actions as it deems appropriate.

The CDFI Fund reserves the right, in its sole discretion, to rescind an award if the Recipient fails to return the Award Agreement, signed by the authorized representative of the Recipient, and/or provide the CDFI Fund with any other requested documentation, within the CDFI Fund's deadlines.

In addition, the CDFI Fund reserves the right, in its sole discretion, to terminate and rescind the Award Agreement and the award made under this NOFA for any criteria described in the following table:

Table 6—Criteria That May Result in Award Termination Prior to the Execution of an Award Agreement
Criteria | Description
Failure to meet reporting requirements | If an Applicant is a prior CDFI Fund Recipient or allocatee under any CDFI Fund program and is not current on the reporting requirements set forth in the previously executed assistance, award, allocation, bond loan agreement(s), or agreement to guarantee, the CDFI Fund reserves the right, in its sole discretion, to delay entering into an Award Agreement and/or to delay making a disbursement of Award proceeds, until said prior Recipient or allocatee is current on the reporting requirements in the previously executed assistance, award, allocation, bond loan agreement(s), or agreement to guarantee. Please note that automated systems employed by the CDFI Fund for receipt of reports submitted electronically typically acknowledge only a report's receipt; such acknowledgment does not warrant that the report received was complete and therefore met reporting requirements. If said prior Recipient or allocatee is unable to meet this requirement within the timeframe set by the CDFI Fund, the CDFI Fund reserves the right, in its sole discretion, to terminate and rescind the award made under this NOFA.
Pending resolution of noncompliance | If at any time prior to entering into an Award Agreement under this NOFA, an Applicant that is a prior CDFI Fund Recipient or allocatee under any CDFI Fund program: (i) Has submitted reports to the CDFI Fund that demonstrate noncompliance with a previous assistance, award, allocation agreement, bond loan agreement, or agreement to guarantee, but (ii) the CDFI Fund has yet to make a final determination regarding whether or not the entity is in default of its previous assistance, award, allocation, bond loan agreement, or agreement to guarantee, the CDFI Fund reserves the right, in its sole discretion, to delay entering into an Award Agreement and/or to delay making a disbursement of award proceeds, pending full resolution, in the sole determination of the CDFI Fund, of the noncompliance.
| If said prior Recipient or allocatee is unable to meet this requirement, in the sole determination of the CDFI Fund, the CDFI Fund reserves the right, in its sole discretion, to terminate and rescind the award made under this NOFA.
Default status | If prior to entering into an Award Agreement under this NOFA: (i) The CDFI Fund has made a final determination that an Applicant that is a prior CDFI Fund Recipient or allocatee under any CDFI Fund program whose award or allocation terminated in default of such prior agreement; (ii) the CDFI Fund has provided written notification of such determination to such organization; and (iii) the anticipated date for entering into the Award Agreement under this NOFA is within a period of time specified in such notification throughout which any new award, allocation, assistance, bond loan agreement(s), or agreement to guarantee is prohibited, the CDFI Fund reserves the right, in its sole discretion, to terminate and rescind the Award Agreement and the award made under this NOFA.
Compliance with Federal civil rights requirements | If prior to entering into an Award Agreement under this NOFA, the Recipient receives a final determination, made within the last three years, in any proceeding instituted against the Recipient in, by, or before any court, governmental, or administrative body or agency, declaring that the Recipient has violated the following laws: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency, the CDFI Fund will terminate and rescind the Assistance Agreement and the award made under this NOFA.
Do Not Pay | The Do Not Pay Business Center was developed to support Federal agencies in their efforts to reduce the number of improper payments made through programs funded by the Federal government.
| The CDFI Fund reserves the right, in its sole discretion, to rescind an award if the Recipient is identified as ineligible to be a Recipient per the Do Not Pay database.
Safety and Soundness | If it is determined the Recipient is or will be incapable of meeting its award obligations, the CDFI Fund will deem the Recipient to be ineligible or require it to improve safety and soundness conditions prior to entering into an Award Agreement.

C. Award Agreement: After the CDFI Fund selects a Recipient, unless an exception detailed in this NOFA applies, the CDFI Fund and the Recipient will enter into an Award Agreement. The Award Agreement will set forth certain required terms and conditions of the award, which will include, but not be limited to: (i) The amount of the award; (ii) the approved uses of the award; (iii) the performance goals and measures; (iv) the performance periods; and (v) the reporting requirements. The Award Agreement shall provide that a Recipient shall: (i) Carry out its Qualified Activities in accordance with applicable law, the approved Application, and all other applicable requirements; (ii) not receive any disbursement of award dollars until the CDFI Fund has determined that the Recipient has fulfilled all applicable requirements; and (iii) use the BEA Program Award amount for Qualified Activities. Recipients which committed to serving PPCs will have their PPC commitment incorporated into their Award Agreement as a performance goal which will be subject to compliance and reporting requirements.

D. Reporting: Through this NOFA, the CDFI Fund will require each Recipient to account for and report to the CDFI Fund on the use of the award. This will require Recipients to establish administrative controls, subject to applicable OMB Circulars. The CDFI Fund will collect information from each such Recipient on its use of the award at least once following the award and more often if deemed appropriate by the CDFI Fund in its sole discretion. The CDFI Fund will provide guidance to Recipients outlining the format and content of the information required to be provided to describe how the funds were used.

The CDFI Fund may collect information from each Recipient including, but not limited to, an Annual Report with the following components:

Table 7—Reporting Requirements
Criteria | Description
Single Audit Narrative Report (or like report) | For each year of its performance period, the Recipient, must answer in the Financial Report section in AMIS, as to whether it is required to have a single audit pursuant to OMB Single Audit requirements.
Use of BEA Program Award Report—for all Recipients | Recipients must submit the Use of Award report to the CDFI Fund via AMIS.
Use of BEA Program Award Report—Funds Deployed in Persistent Poverty Counties | The CDFI Fund will require each Recipient with Persistent Poverty County commitments to report data for Award funds deployed in persistent poverty counties and maintain proper supporting documentation and records which are subject to review by the CDFI Fund.
Explanation of Noncompliance (as applicable) or successor report | If the Recipient fails to meet a Performance Goal or reporting requirement, it must submit the Explanation of Noncompliance via AMIS.

Each Recipient is responsible for the timely and complete submission of the reporting requirements. The CDFI Fund reserves the right to contact the Recipient to request additional information and documentation. The CDFI Fund may consider financial information filed with Federal regulators during its compliance review. The CDFI Fund will use such information to monitor each Recipient's compliance with the requirements in the Award Agreement and to assess the impact of the BEA Program. The CDFI Fund reserves the right, in its sole discretion, to modify these reporting requirements if it determines it to be appropriate and necessary; however, such reporting requirements will be modified only after notice has been provided to Recipients.

E. Financial Management and Accounting: The CDFI Fund will require Recipients to maintain financial management and accounting systems that comply with Federal statutes, regulations, and the terms and conditions of the award. These systems must be sufficient to permit the preparation of reports required by general and program specific terms and conditions, including the tracing of funds to a level of expenditures adequate to establish that such funds have been used according to the Federal statutes, regulations, and the terms and conditions of the award.

Each of the Qualified Activities categories will be ineligible for indirect costs and an associated indirect cost rate. The cost principles used by Recipients must be consistent with Federal cost principles and support the accumulation of costs as required by the principles, and must provide for adequate documentation to support costs charged to the BEA Program Award. In addition, the CDFI Fund will require Recipients to: Maintain effective internal controls; comply with applicable statutes, regulations, and the Award Agreement; evaluate and monitor compliance; take action when not in compliance; and safeguard personally identifiable information.

VII. Agency Contacts

A. Questions Related to Application and Prior Recipient Reporting, Compliance and Disbursements: The CDFI Fund will respond to questions concerning this NOFA, the Application and reporting, compliance, or disbursements between the hours of 9:00 a.m. and 5:00 p.m. Eastern Time, starting on the date that this NOFA is published through the date listed in Table 1. The CDFI Fund will post responses to frequently asked questions in a separate document on its website. Other information regarding the CDFI Fund and its programs may be obtained from the CDFI Fund's website at https://www.cdfifund.gov.

The following table lists contact information for the CDFI Fund, Grants.gov and SAM:

Table 8—Contact Information
Type of Question | Telephone No. (not toll free) | Electronic contact method
BEA Program | 202-653-0421 | BEA AMIS Service Request.
Certification, Compliance Monitoring, and Evaluation | 202-653-0423 | BEA Compliance and Reporting AMIS Service Request.
AMIS—IT Help Desk | 202-653-0422 | IT AMIS Service Request.
Grants.gov Help Desk | 800-518-4726 | support@grants.gov.
SAM.gov (Federal Service Desk) | 866-606-8220 | Web form via https://www.fsd.gov/fsd-gov/login.do.

B. Information Technology Support: People who have visual or mobility impairments that prevent them from using the CDFI Fund's website should call (202) 653-0422 for assistance (this is not a toll free number).

C. Communication with the CDFI Fund: The CDFI Fund will use its AMIS internet interface to communicate with Applicants and Recipients under this NOFA. Recipients must use AMIS to submit required reports. The CDFI Fund will notify Recipients by email using the addresses maintained in each Recipient's AMIS account. Therefore, a Recipient and any Subsidiaries, signatories, and Affiliates must maintain accurate contact information (including contact person and authorized representative, email addresses, fax numbers, phone numbers, and office addresses) in their AMIS account(s).

D. Civil Rights and Diversity: Any person who is eligible to receive benefits or services from CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group,s/he may file a complaint with: Associate Chief Human Capital Officer, Office of Civil Rights, and Diversity, 1500 Pennsylvania Ave. NW, Washington, DC 20220 or (202) 622-1160 (not a toll-free number).

VIII. Other Information

A. Reasonable Accommodations: Requests for reasonable accommodations under section 504 of the Rehabilitation Act should be directed to Mr. Jay Santiago, Community Development Financial Institutions Fund, U.S. Department of the Treasury, at SantiagoJ@cdfi.treas.gov no later than 72 hours in advance of the application deadline.

B. Paperwork Reduction Act: Under the Paperwork Reduction Act (44 U.S.C. chapter 35), an agency may not conduct or sponsor a collection of information, and an individual is not required to respond to a collection of information, unless it displays a valid OMB control number. Pursuant to the Paperwork Reduction Act, the BEA Program funding Application has been assigned the following control number: 1559-0005.

C. Application Information Sessions: The CDFI Fund may conduct webinars or host information sessions for organizations that are considering applying to, or are interested in learning about, the CDFI Fund's programs. For further information, please visit the CDFI Fund's website at https://www.cdfifund.gov.

Authority: 12 U.S.C. 1834a, 4703, 4703 note, 4713; 12 CFR part 1806.

Mary Ann Donovan,
Director, Community Development Financial Institutions Fund.

[FR Doc. 2018-15618 Filed 7-20-18; 8:45 am]

BILLING CODE 4810-70-P